DEPARTMENT OF COMMERCE

International Trade Administration

(A-533-840)

Certain Frozen Warmwater Shrimp from India: Amended Final Results of Antidumping Duty Administrative Review and Rescission In Part

AGENCY: Import Administration, International Trade Administration, Department of Commerce.

EFFECTIVE DATE: October 25, 2007.

FOR FURTHER INFORMATION CONTACT: Elizabeth Eastwood, AD/CVD Operations, Office 2, Import Administration, International Trade Administration, U.S. Department of Commerce, 14th Street and Constitution Avenue, NW, Washington, DC 20230; telephone: (202) 482-3874.

SUPPLEMENTARY INFORMATION:

Background

In accordance with sections 751(a)(1) and 777(i)(1) of the Tariff Act of 1930, as amended (the Act), on September 12, 2007, the Department of Commerce (the Department) published its notice of final results of antidumping duty administrative review on certain frozen warmwater shrimp from India. See Certain Frozen Warmwater Shrimp from India: Final Results and Partial Rescission of Antidumping Duty Administrative Review, 72 FR 52055 (Sept. 12, 2007) (Final Results). On October 12, 2007, we received an allegation from Lotus Sea Farms (Lotus), a respondent in this proceeding, that the Department made a ministerial error with respect to the rate assigned to it in the final results.

Although we received Lotus's ministerial error allegation after the normal deadline for filing ministerial error allegations (see 19 CFR 351.224(c)(2),(4)), we find good cause to extend the deadline for filing a ministerial error allegation to the date we received the request and allegation from Lotus. See 19 CFR 351.302(b). After analyzing Lotus's submission, we have determined, in accordance with section 751(h) of the Act, that we made a ministerial error in the final results when we assigned the adverse facts available (AFA) rate to Lotus because we believed that it had failed to submit a response to the Department's quantity and value (Q&V) questionnaire when, in fact, it had done so. Therefore, because: 1) Lotus responded to the Department's request for Q&V information in this administrative review; and 2) the evidence on the record does not indicate that Lotus exported subject merchandise to the United States during the POR, we are rescinding the administrative review for it.

Amended Final Results of Review and Rescission in Part

We have determined, in accordance with section 751(h) of the Act and 19 CFR 351.224(e), that the Department made a ministerial error in the final results by assigning Lotus the AFA rate when Lotus did indeed respond to the Department's request for Q&V information. In addition, because the evidence on the record of this administrative review does not indicate that Lotus exported subject merchandise during the POR, we are rescinding the administrative review for it. For a detailed discussion of this ministerial error, the Department's finding of good cause to extend the deadline for filing a ministerial error allegation, and the Department's analysis, see the October 16, 2007, memorandum to James Maeder from Elizabeth Eastwood entitled, “Ministerial Error Allegation Regarding Lotus Sea Farms in the Final Results of the 2004-2006 Antidumping Duty Administrative Review of Certain Frozen Warmwater Shrimp from India.”

Therefore, we are amending the final results of administrative review of certain frozen warmwater shrimp from India for the period August 4, 2004, through January 31, 2006. As a result of correcting the ministerial error discussed above, we are rescinding this administrative review with respect to Lotus, and we will notify U.S. Customs and Border Protection of this rescission. For the remaining respondents, the weighted-average dumping margins remain the same. See Final Results.

We are issuing and publishing this determination and notice in accordance with sections 751(a)(1) and 777(i)(1) of the Act.

Dated: October 19, 2007.
David M. Spooner,
Assistant Secretary for Import Administration.

[FR Doc. E7-21039 Filed 10-24-07; 8:45 am]

BILLING CODE 3510-DS-S